DEPARTMENT OF HOUSING AND URBAN DEVELOPMENT

[Docket No. FR 4817-N-18]

Notice of Proposed Information Collection for Public Comment—Public Housing Operating Subsidy Program Computation of Payments in Lieu of Taxes Form

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: December 15, 2003.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4249, Washington, DC 20410-5000.

FOR FURTHER INFORMATION CONTACT: Mildred M. Hamman, (202) 708-0614, extension 4128. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

The Public Housing Computation of Payment in Lieu of Taxes (PILOT) form is used by the Department to collect information from Public Housing Agencies (PHAs), financial data on supporting funding request under the operating subsidy program.

The title, purpose, and estimated time it will take applicants to complete the form is described in the section below.

This Notice also lists the following information:

Title of Proposal: Computation of Payment in Lieu of Taxes.

OMB Control Number: 2577-0072.

Description of the need for the information and proposed use: In order for the Department to adequately and accurately fund the statutorily required payments in lieu of taxes, the Department collects data from PHAs to support this cost.

The form is used by the Department for calculation and documentation of cost paid to PHAs for payments in lieu of taxes to local governments. The form captures specific financial data to detail the allowed amount of the payments in lieu of taxes in accordance with regulatory requirements.

Agency form numbers, if applicable: HUD-52267.

Members of affected public: Local, State, or Tribal Governments, and Resident Associations.

Estimation of the total number of hours needed to prepare the information collection including number of respondents, frequency of response, and hours of response: For public housing agencies: 3,200 respondents, one response per year; .4 hours per response; 1,280 total burden hours.

Status of the proposed information collection: Reinstatement, without change, of previously approved collection for which approval has expired.

Authority: Section 3506 of the Paperwork Reduction Act of 1995, 44 U.S.C. Chapter 35, as amended.

Paula O. Blunt,
General Deputy Assistant Secretary for Public and Indian Housing.

BILLING CODE 4210-33-M

[FR Doc. 03-26088 Filed 10-15-03; 8:45 am]

BILLING CODE 4210-33-C